DEPARTMENT OF COMMERCE

National Oceanic and Atmospheric Administration

RIN 0648-XG297

Marine Mammals; File No. 21425

AGENCY: National Marine Fisheries Service (NMFS), National Oceanic and Atmospheric Administration (NOAA), Commerce.

ACTION: Notice; receipt of application.

SUMMARY: Notice is hereby given that Point Blue Conservation Science, has applied in due form for a permit to conduct research on pinnipeds in California.

DATES: Written, telefaxed, or email comments must be received on or before October 22, 2018.

ADDRESSES: The application and related documents are available for review by selecting “Records Open for Public Comment” from the “Features” box on the Applications and Permits for Protected Species (APPS) home page, https://apps.nmfs.noaa.gov, and then selecting File No. 21425 from the list of available applications.

These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The proposed permit would authorize research to study and monitor population trends, health, and ecology of pinnipeds in California. Each year, up to 2,210 Northern elephant seals (Mirounga angustirostris) and 500 northern fur seal (Callorhinus ursinus) will be tagged, marked, and handled annually. A maximum estimated 4,000 harbor seals (Phoca vitulina), 2,500 Northern elephant seals, 2,200 California sea lions (Zalophus californianus), 320 Steller sea lions (Eumetopias jubatus) and 1,250 northern fur seals will be incidentally disturbed annually during pinniped research operations including ground surveys, scat collection, unmanned aircraft system operations, and adult/pup tagging. The permit would be valid for five years from date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Julia Marie Harrison,
Chief, Permits and Conservation Division, Office of Protected Resources, National Marine Fisheries Service.

[FR Doc. 2018-20477 Filed 9-19-18; 8:45 am]

BILLING CODE 3510-22-P